DEPARTMENT OF THE TREASURY

Submission for OMB Review; Comment Request

June 21, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 1, 2005 to be assured of consideration.

Internal Revenue Service (IRS)

OMB Number: 1545-0284.

Form Number: IRS Form 5309.

Type of Review: Extension.

Title: Application for Determination of Employee Stock Ownership Plan.

Description: Form 5309 is used in conjunction with Form 5300 or Form 5303 when applying for a determination letter as to a deferred compensation plan's qualification status under section 409 or 4975(e)(7) of the Internal Revenue Code. The information is used to determine whether the plan qualifies.

Respondents: Business and other for-profit.

Estimated Number of Respondents/Recordkeepers: 462.

Estimated Burden Hours Respondent/Recordkeeper:

Recordkeeping—6 hr., 42 min.

Learning about the law or the form—2 hr., 17 min.

Preparing and sending the form to the IRS—2 hr., 29 min.

Frequency of Response: On occasion.

Estimated Total Reporting/Recordkeeping Burden: 5,300 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Lois K. Holland,
Treasury PRA Clearance Officer.

[FR Doc. 05-13022 Filed 6-30-05; 8:45 am]

BILLING CODE 4830-01-P